ENVIRONMENTAL PROTECTION AGENCY

40 CFR Part 70

[TN-T5-2001-03; FRL-6977-7]

Clean Air Act Proposed Full Approval of Operating Permit Program; Tennessee and Memphis-Shelby County

AGENCY: Environmental Protection Agency (EPA).

ACTION: Proposed rule; reopening of the public comment period.

SUMMARY: In response to a request from Mr. George Hays as counsel for the National Parks Conservation Association, EPA is reopening the comment period for a proposed rule published on March 20, 2001, in the Federal Register (66 FR 15680) for full approval of the operating permit programs submitted by the Tennessee Department of Environment and Conservation and the Memphis-Shelby County Health Department.

DATES: Written comments must be received by EPA on or before June 11, 2001.

ADDRESSES: Comments should be addressed to Ms. Kim Pierce, Regional Title V Program Manager, Air & Radiation Technology Branch, EPA Region 4, 61 Forsyth Street, SW, Atlanta, Georgia 30303-8909.

FOR FURTHER INFORMATION CONTACT: Kim Pierce, EPA Region 4, at (404) 562-9124 or pierce.kim@epa.gov/.

SUPPLEMENTARY INFORMATION: See the information provided in the direct final rule located in the final rules section and the proposed rule located in the proposed rules section of the Federal Register published on March 20, 2001.

Dated: May 3, 2001.
A. Stanley Meiburg,
Acting Regional Administrator, Region 4.

[FR Doc. 01-11911 Filed 5-10-01; 8:45 am]

BILLING CODE 6560-50-P